DEPARTMENT OF AGRICULTURE

U.S. Codex Office

Codex Alimentarius Commission: Meeting of the Codex Alimentarius Commission

AGENCY: U.S. Codex Office, USDA.

ACTION: Notice of public meeting and request for comments.

SUMMARY: The U.S. Codex Office is sponsoring a virtual public meeting on October 26, 2022. The objective of the public meeting is to provide information and receive public comments on agenda items and draft United States (U.S.) positions to be discussed at the 45th Session of the Codex Alimentarius Commission (CAC), which will take place from November 21-25, 2022, with the report adoption on December 12-13, 2022. The U.S. Manager for Codex Alimentarius and the Acting Deputy Under Secretary for Trade and Foreign Agricultural Affairs recognize the importance of providing interested parties the opportunity to obtain background information on the 45th Session of the CAC and to address items on the agenda.

DATES: The public meeting is scheduled for October 26, 2022, from 1:00 p.m.-4:00 p.m. EST.

ADDRESSES: The public meeting will take place via video teleconference only. Documents related to the 45th Session of the CAC will be accessible via the internet at the following address: https://www.fao.org/fao-who-codexalimentarius/meetings/detail/en/?meeting=CAC&session=45. Ms. Mary Frances Lowe, U.S. Delegate to the 45th Session of the CAC, invites interested U.S. parties to submit their comments electronically to the following email address: uscodex@usda.gov.

Registration: Attendees may register to attend the public meeting here: https://www.zoomgov.com/meeting/register/vJItdO-srDMrGJxRIsmy7r4RU08yTLgsaEE. After registering, you will receive a confirmation email containing information about joining the meeting.

For further information about the 45th Session of the CAC or the public meeting, please contact the U.S. Codex Office, 1400 Independence Avenue SW, Room 4861, South Agriculture Building, Washington, DC 20250. Phone (202) 205-7760. Email: uscodex@usda.gov.

SUPPLEMENTARY INFORMATION:

Background

The Codex Alimentarius Commission was established in 1963 by two United Nations organizations: the Food and Agriculture Organization and the World Health Organization. Through adoption of food standards, codes of practice, and other guidelines developed by its committees, and by promoting their adoption and implementation by governments, Codex seeks to protect the health of consumers and ensure fair practices in the food trade; promotes coordination of all food standards work undertaken by international governmental and nongovernmental organizations; determines priorities, initiates, and guides the preparation of draft standards; finalizes the standards elaborated and publishes them in a Codex Alimentarius (food code) either as regional or worldwide standards, wherever this is practicable; and amends published standards, as appropriate, in the light of new developments.

Issues To Be Discussed at the Public Meeting

The following items on the agenda for the 45th Session of the CAC will be discussed during the public meeting:

• Report by the Chairperson on the 82nd and 83rd Sessions of the Executive Committee (including matters referred)

• Amendments to the Procedural Manual

• Work of Codex Committees (adoption, new work, revocation, discontinuation and editorial amendments to Codex texts proposed by the following committees):

○ Codex Committee on Fats and Oils

○ Codex Committee on Nutrition and Foods for Special Dietary Uses

○ Codex Committee on Food Hygiene

○ Codex Committee on Fresh Fruits and Vegetables

○ Codex Committee on Contaminants in Foods

○ Codex Committee on Pesticide Residues

○ Codex Committee on Spices and Culinary Herbs

○ Codex Committee on Residues of Veterinary Drugs in Foods

○ FAO/WHO Regional Coordinating Committees

• Editorial amendments to Codex texts proposed by the Codex Secretariat

• Other matters related to Codex Subsidiary Bodies

• Codex Strategic Plan 2020-2025—Implementation report 2020-2021

• Codex Budgetary and Financial Matters

• Matters arising from FAO and WHO

• Appointment of Coordinators

• Election of Chairperson and Vice-Chairpersons

• Designation of Countries responsible for appointing the Chairpersons of Codex Subsidiary Bodies

• 60th Anniversary of the Codex Alimentarius Commission: 1963-2023

Relevant documents are or will be available at https://www.fao.org/fao-who-codexalimentarius/meetings/detail/en/?meeting=CAC&session=45.

Public Meeting

At the October 26, 2022, public meeting, draft U.S. positions on the anticipated agenda items will be described and discussed, and attendees will have the opportunity to pose questions and offer comments. Written comments may be offered at the meeting or sent to the U.S. Delegate for the 45th Session of the CAC (see ADDRESSES). Written comments should state that they relate to activities of the 45th Session of the CAC.

Additional Public Notification

Public awareness of all segments of rulemaking and policy development is important. Consequently, the U.S. Codex Office will announce this Federal Register publication on-line through the USDA web page located at: https://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/sites/default/files/documents/Complain_combined_6_8_12_508.pdf, or write a letter signed by you or your authorized representative. Send your completed complaint form or letter to USDA by mail, fax, or email.

Mail: U.S. Department of Agriculture, Director, Office of Adjudication, 1400 Independence Avenue SW, Washington, DC 20250-9410. Fax: (202) 690-7442. Email: program.intake@usda.gov. Persons with disabilities who require alternative means for communication (Braille, large print, audiotape, etc.) should contact USDA's TARGET Center at (202) 720-2600 (voice and TDD).

Done at Washington, DC, on September 25, 2022.
Mary Frances Lowe,
U.S. Manager for Codex Alimentarius.

[FR Doc. 2022-21091 Filed 9-28-22; 8:45 am]

BILLING CODE P